Title 3—

The President

Proclamation 9462 of June 15, 2016

World Elder Abuse Awareness Day, 2016

By the President of the United States of America

A Proclamation

Too often, elder abuse, neglect, and exploitation threaten the livelihoods of older individuals and erode their extraordinary potential. One in ten seniors in America experiences mistreatment or abuse—including domestic and sexual violence—and because these incidents are vastly underreported, only a limited number of victims are able to get the help they need. Today, we join our international partners in renewing our commitment to combat and raise awareness of elder abuse, and in striving to ensure security and dignity for all seniors.

Worldwide, millions of people—predominantly women—experience different forms of elder abuse, including physical, emotional, and sexual abuse. Theft, fraud, and other types of financial exploitation also affect seniors across socioeconomic lines, and neglect and abandonment can cause great harm to vulnerable older individuals. My Administration is dedicated to addressing this serious problem by providing care to survivors of abuse, transforming our Nation's criminal justice systems to better understand elder abuse as a criminal issue, and increasing public awareness of warning signs and prevention strategies. Additionally, because the majority of elder abuse victims are women, we are working to support women domestically and abroad and to combat gender-based violence around the world.

One of the best measures of a country is how it treats its older citizens. My Administration is devoted to strengthening Medicare, Medicaid, the Older Americans Act, and Social Security. Together, these programs have significantly reduced the rate of seniors living in poverty, helped older Americans access health care and quality care services, and allowed older Americans to remain independent as they age. The Elder Justice Act, enacted as part of the Affordable Care Act, took new steps to address elder abuse, neglect, and exploitation and established an Elder Justice Coordinating Council through which Federal agencies are working together to address elder abuse and neglect. And our commitment to supporting survivors of all ages is reflected in the Violence Against Women Act, which dedicates Federal funds to victim service providers, law enforcement, and prosecutors working to respond to domestic and sexual violence experienced by older adults.

Last year, I was proud to host the White House Conference on Aging to identify ways we can improve the quality of life for older Americans and enable them to live in retirement with dignity. Held once a decade, this conference brought together older Americans, their families, caregivers, and advocates to focus on key issue areas, including the importance of elder justice. In addition to taking new steps to expand protections against financial exploitation, assist victims of crimes, and review the science of understanding and preventing abuse through better screening tools, we have built on many of the Federal efforts already underway and are working to support aging Americans for decades to come.

On World Elder Abuse Awareness Day, let us resolve to give all people the tools and support they need to live out their golden years in peace and security. Let us fight cruelty against seniors wherever it exists, and together, let us stamp out all forms of elder abuse—here at home and across the globe.

NOW, THEREFORE, I, BARACK OBAMA, President of the United States of America, by virtue of the authority vested in me by the Constitution and the laws of the United States, do hereby proclaim June 15, 2016, as World Elder Abuse Awareness Day. I call upon all Americans to observe this day by learning the signs of elder abuse, neglect, and exploitation, and by raising awareness about this important public health issue.

IN WITNESS WHEREOF, I have hereunto set my hand this fifteenth day of June, in the year of our Lord two thousand sixteen, and of the Independence of the United States of America the two hundred and fortieth.

[FR Doc. 2016-14638

Filed 6-17-16; 8:45 am]

Billing code 3295-F6-P